DEPARTMENT OF DEFENSE

Department of the Army

Availability of U.S. Patent for Non-Exclusive, Exclusive, or Partially Exclusive Licensing

AGENCY: U.S. Army Research Laboratory, DOD.

ACTION: Notice.

SUMMARY: In accordance with 37 CFR 404.6, announcement is made of the availability of the following U.S. patent for non-exclusive, partially exclusive or exclusive licensing. The listed patent has been assigned to the United states of America as represented by the Secretary of the Army, Washington, DC.

This patent covers a wide variety of technical arts including: A fold-out fin for an artillery projectile with a low drag configuration which avoids adverse aerodynamic behavior.

Under the authority of section 11(a)(2) of the Federal Technology Transfer Act of 1986 (Pub. L. 99-502) and section 207 of Title 35, United States Code, the Department of the Army as represented by the U.S. Army Research Laboratory wish to license U.S. patent listed below in a non-exclusive, exclusive or partially exclusive manner to any party interested in manufacturing, using, and/or selling devices covered by these patents.

Title: Fold-out Fin.

Inventors: Lyle D. Kayser and T. Gordon Brown.

Patent Number: 6,168,111.

Issued Date: January 2, 2001.

FOR FURTHER INFORMATION CONTACT: Michael Rausa, Technology Transfer Office, AMSRL-CS-TT, U.S. Army Research Laboratory, Aberdeen Proving Ground, MD 21005-5055. Telephone: (410) 278-5028 or Fax: (410) 278-5820.

SUPPLEMENTARY INFORMATION: None.

Luz D. Ortiz,
Army Federal Register Liaison Officer.

[FR Doc. 01-7917 Filed 3-29-01; 8:45 am]

BILLING CODE 3710-08-M